DEPARTMENT OF TRANSPORTATION

Office of the Secretary

Aviation Proceedings, Agreements Filed the Week Ending May 26, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-24892

Date Filed: May 22, 2006

Parties: Members of the International Air Transport Association

Subject:

Mail Vote 478—Cargo Composite Resolutions (Memo 0547)

Mail Vote 479—Worldwide Area Resolutions except Alliance Countries Shanghai, 17 February 2006 (Memo 0548)

Mail Vote 480—Worldwide Area Resolutions Alliance Countries Shanghai, 17 February 2006 (Memo 0549)

Technical Correction—Mail Vote 478—Cargo Composite Resolutions (Memo 0555) and (Memo 0562)

Mail Vote 479—Worldwide Area Resolutions except Alliance Countries (Memo 0556) and (Memo 563)

Mail Vote 480—Worldwide Area Resolutions Alliance Countries (Memo 0557) and (Memo 0564)

Policy Group Report—Composite Meeting of Cargo Tariff Coordinating Conferences (Memo 0561)

Intended effective date: 1 October 2006

Docket Number: OST-2006-24893

Date Filed: May 22, 2006

Parties: Members of the International Air Transport Association

Subject:

Mail Vote 489—Resolution 010p

TC2 EUR

Special Passenger Amending Resolution Between Italy and Europe

Intended effective date: 15 June 2006

Docket Number: OST-2006-24899

Date Filed: May 23, 2006

Parties: Members of the International Air Transport Association

Subject:

Mail Vote 478 Cargo Composite Resolutions (Memo 0547)

Mail Vote 479 Worldwide Area Resolutions except Alliance Countries Shanghai, 17 February 2006 (Memo 0548)

Mail Vote 480 Worldwide Area Resolutions Alliance Countries Shanghai, 17 February 2006 (Memo 0549)

Technical Correction: Mail Vote—478 Cargo Composite Resolutions (Memo 0555) and (Memo 0562)

Mail Vote 479—Worldwide Area Resolutions except Alliance Countries (Memo 0556) and (Memo 563)

Mail Vote 480—Worldwide Area Resolutions Alliance Countries (Memo 0557) and (Memo 0564)

Policy Group Report: Composite Meeting of Cargo Tariff Coordinating Conferences (Memo 0561)

Intended effective date: 1 October 2006

Renee V. Wright,
Program Manager, Docket Operations, Federal Register Liaison.

[FR Doc. E6-9730 Filed 6-20-06; 8:45 am]

BILLING CODE 4910-9X-P